DEPARTMENT OF DEFENSE

Office of the Secretary

Meeting of the Department of Defense Military Family Readiness Council (MFRC)

AGENCY: Office of the Under Secretary of Defense for Personnel and Readiness, DoD.

ACTION: Notice.

SUMMARY: Pursuant to section 10(a), Public Law 92-463, as amended, notice is hereby given of a forthcoming meeting of the Department of Defense Military Family Readiness Council (MFRC). The purpose of the Council meeting is to review the Council's Charter, review the status of warrior care, and address selected concerns of military family organizations. The meeting is open to the public, subject to the availability of space.

DATES: The meeting will be held on 8 December 2009, from 1-3 p.m.

ADDRESSES: The meeting will be held at the Pentagon Conference Center B6 (escorts will be provided from Pentagon Conference Center entrance).

FOR FURTHER INFORMATION CONTACT: Mr. Michael Osborn, Office of the Deputy Under Secretary (Military Community & Family Policy), 4000 Defense Pentagon, Room 5A726, Washington, DC 20301-4000. Telephone (703) 588-0099 and/or e-mail: george.osborn.ctr@osd.mil.

SUPPLEMENTARY INFORMATION: The meeting is open to the public, subject to the availability of space. Persons desiring to attend may contact Mr. Michael Osborn at 703-588-0099 no later than 5 p.m. on Friday, 4 December 2009 to arrange for parking and escort into the conference room inside the Pentagon.

Written Statements

Interested persons may submit a written statement for consideration by the Council. Persons desiring to submit a written statement to the Council must notify the point of contact listed under FOR FURTHER INFORMATION CONTACT no later than 5 p.m., Friday, 4 December 2009.

Meeting Agenda

Tuesday, 8 December 2009 from 1-3 p.m.

Welcome and Introductions

Federal Advisory Committee Act Rules and Restrictions

Brief: Interstate Compact

Discussion of Data from Guard and Reserve Task Force, Joint Family Readiness Conference 2009, MC&FP Focus Groups, Nationwide Listening Sessions, Panel Recommendations from the Summit on Military Families

Review of and Voting on the Council's DRAFT Annual Report

Intentions for the Spring 2010 Meeting

Discussion: Service Exceptional Family Member Programs

Closing Remarks

Note: Exact order may vary.

Dated: November 16, 2009.
Mitchell S. Bryman,
Alternate OSD Federal Register Liaison Officer, Department of Defense.

[FR Doc. E9-27795 Filed 11-18-09; 8:45 am]

BILLING CODE 5001-06-P